ENVIRONMENTAL PROTECTION AGENCY

[FRL-8245-1]

Draft Grant Guidelines for States Regarding: Inspection Provision and State Compliance Report on the Government Underground Storage Tanks Provision; Solid Waste Disposal Act, Subtitle I, as Amended by Title XV, Subtitle B of the Energy Policy Act of 2005

AGENCY: Environmental Protection Agency.

ACTION: Notice of availability.

SUMMARY: By this notice, the Environmental Protection Agency (EPA), Office of Underground Storage Tanks (OUST) is advising the public of the future availability of draft grant guidelines for states regarding the inspection provision and state compliance report on the government underground storage tanks (USTs) provision. EPA is developing these two grant guidelines to help states comply with requirements for receiving funding under Subtitle I of the Solid Waste Disposal Act as established in Title XV, Subtitle B of the Energy Policy Act of 2005. EPA is asking the public to review and comment on the guidelines as they become available. EPA encourages interested stakeholders to regularly check EPA's Web site at: http://www.epa.gov/oust/fedlaws/epact_05.htm#Drafts where we will post the draft guidelines as they become available over the next several months. You also may send an e-mail to OUST_Energy_Policy_Act_Email_List@epa.gov requesting that we notify you when the drafts are posted on EPA's Web site. If you previously e-mailed a request to be included on this list, there is no need for you to do so again.

DATES: EPA anticipates the draft grant guidelines will become available between November 21, 2006 and March 31, 2007.

ADDRESSES: EPA will post the draft grant guidelines on our Web site at: http://www.epa.gov/oust/fedlaws/epact_05.htm#Drafts as they become available over the next several months. You also may send an e-mail to OUST_Energy_Policy_Act_Email_ List@epa.gov requesting that we notify you when the drafts are posted on EPA's Web site. If you previously e-mailed a request to be included on this list, there is no need for you to do so again. After the draft grant guidelines are posted on EPA's Web site, paper copies will be available from the National Service Center for Environmental Publications (NSCEP), EPA's publications distribution warehouse. You may request copies from NSCEP by calling 1-800-490-9198; writing to U.S. EPA/NSCEP, Box 42419, Cincinnati, OH 45242-0419; or faxing your request to NSCEP at 513-489-8695.

FOR FURTHER INFORMATION CONTACT: For draft grant guidelines regarding inspection provision: Tim Smith, EPA's Office of Underground Storage Tanks, at smith.timr@epa.gov or 703-603-7158. For draft grant guidelines regarding State compliance report on government USTs provision: Steven McNeely, EPA's Office of Underground Storage Tanks, at mcneely.steven@epa.gov or 703-603-7164.

SUPPLEMENTARY INFORMATION: On August 8, 2005, President Bush signed the Energy Policy Act of 2005. Title XV, Subtitle B of this act, entitled the Underground Storage Tank Compliance Act of 2005, contains amendments to Subtitle I of the Solid Waste Disposal Act, the original legislation that created the underground storage tank program. This is the first federal legislative change for the UST program since its inception over 20 years ago. The UST provisions of the law significantly affect federal and state UST programs; require major changes to the programs; and are aimed at further reducing UST releases to our environment. Some of the UST provisions of the Energy Policy Act were implemented by August 2006; other provisions will need to be implemented in subsequent years. See EPA's Web site at: http://www.epa.gov/oust/fedlaws/epact_05.htm for more information about the UST provisions of the Energy Policy Act.

Among other things, the UST provisions of the Energy Policy Act require that states receiving funding under Subtitle I comply with certain requirements contained in the law. Following enactment of the new law, OUST worked, and is continuing to work, with its partners to develop grant guidelines which EPA regional tank programs will incorporate into States' grant agreements. The guidelines will provide states, which receive UST funds, with specific requirements based on the UST provisions of the Energy Policy Act for their State UST programs.

To implement the law, OUST, EPA regions, and States are working closely with tribes, other Federal agencies, tank owners and operators, UST equipment industry, and other stakeholders to bring about the mandated changes affecting UST programs. Over the next several months, EPA expects to issue draft grant guidelines regarding the inspection provision and state compliance report on government USTs provision.

Once the guidelines are issued and become effective, EPA regions will incorporate the guidelines in grant agreements between EPA and States. States receiving funds from EPA for their UST programs must comply with the UST provisions of the Energy Policy Act and will be subject to action by EPA under 40 CFR 31.43 if they fail to comply with the guidelines.

The Agency is providing the public with an opportunity to comment on the two draft grant guidelines when they become available by following the process specified below. As provided in 5 U.S.C. 553(a)(2), the grant guidelines are exempt from the notice and comment rule-making procedures. Consequently, EPA will not establish a public docket for comments and may not issue separate responses to comments when we issue the final guidelines.

EPA encourages interested stakeholders to regularly check EPA's Web site at: http://www.epa.gov/oust/fedlaws/epact_05.htm#Drafts where we will post the draft guidelines as they become available over the next several months. You may also send an e-mail to OUST_Energy_Policy_Act_Email_List@epa.gov requesting that we notify you when the drafts are posted on EPA's Web site. If you previously e-mailed a request to be included on this list, there is no need for you to do so again. As each draft guideline is posted on EPA's Web site, we will accept comments on each for 30 days. EPA's Web site will provide information about document availability and specific public comment periods. You may submit comments by e-mail, facsimile, or mail as described on EPA's Web site. After the draft guidelines are posted on EPA's Web site, paper copies will be available from NSCEP, EPA's publications distribution warehouse upon request. You may request copies from NSCEP by calling 1-800-490-9198; writing to U.S. EPA/NSCEP, Box 42419, Cincinnati, OH 45242-0419; or faxing your request to NSCEP at 513-489-8695.

After considering public comments, EPA will issue final grant guidelines which EPA regions will incorporate into states' grant agreements.

Dated: November 15, 2006.
Susan Parker Bodine,
Assistant Administrator, Office of Solid Waste and Emergency Response.

[FR Doc. E6-19745 Filed 11-20-06; 8:45 am]

BILLING CODE 6560-50-P